DEPARTMENT OF ENERGY

Energy Information Administration

Agency Information Collection Activities: Proposed Collection; Comment Request

AGENCY: Energy Information Administration (EIA), Department of Energy (DOE).

ACTION: Agency Information Collection Activities: Proposed Collection; Comment Request.

SUMMARY: EIA is soliciting comments on a proposal to conduct a new survey titled “Report of Refinery Outages.”

DATES: Comments must be filed by April 28, 2008. If you anticipate difficulty in submitting comments within that period, contact the person listed below as soon as possible.

ADDRESSES: Send comments to Ms. Joanne Shore. To ensure receipt of the comments by the due date, submission by e-mail to Joanne.Shore@eia.doe.gov is recommended. Ms. Shore may be contacted by telephone at 202-586-4677 or facsimile at 202-586-9739; however, e-mail is the preferred medium for correspondence. The mailing address is: Petroleum Division (Attn: Comments on Report of Refinery Outages), EI-42, Forrestal Building, U.S. Department of Energy, Washington, DC 20585.

FOR FURTHER INFORMATION CONTACT: Requests for additional information should be directed to Ms. Shore using the contact information listed above. An example of the information that may be reported on refinery outages is available on the EIA Web site at http://www.eia.doe.gov/pub/oil_gas/petroleum/survey_forms/eia810-part6-proposed-example.pdf. The example is also available from Ms. Shore at the addresses listed above.

SUPPLEMENTARY INFORMATION:

I. Background

II. Current Actions

III. Request for Comments

I. Background

The Federal Energy Administration Act of 1974 (Pub. L. 93-275, 15 U.S.C. 761 et seq.) and the DOE Organization Act (Pub. L. 95-91, 42 U.S.C. 7101 et seq.) require EIA to carry out a centralized, comprehensive, and unified energy information program. This program collects, evaluates, assembles, analyzes, and disseminates information on energy resource reserves, production, demand, technology, and related economic and statistical information. This information is used to assess the adequacy of energy resources to meet near- and long-term domestic demands.

The EIA, as part of its effort to comply with the Paperwork Reduction Act of 1995 (Pub. L. 104-13, 44 U.S.C. Chapter 35), provides the general public and other Federal agencies with opportunities to comment on collections of energy information conducted by or in conjunction with EIA. Any comments received help EIA to prepare surveys that maximize the utility of the information collected, and to assess the impact of collection requirements on the public. Also, after considering any comments received, EIA may seek approval by the Office of Management and Budget (OMB) under Section 3507(a) of the Paperwork Reduction Act of 1995.

The purpose of the “Report of Refinery Outages” would be to collect data for each affected refinery unit regarding the unit type, the outage type (scheduled or unscheduled), the outage timing (beginning and ending dates), unit capacity, and the estimated effects of outages on output. The information would be collected as a new Part 6 on EIA's “Monthly Refinery Report” (Form EIA-810).

EIA would propose to collect both scheduled and unscheduled outage information for the report month, and scheduled outage information for the subsequent 12 months. For example, a company reporting data for February (Form EIA-810 for February is due to EIA by March 20 and statistics based on the reported data are published in April), would include information on both scheduled and unscheduled outages that occurred in February as well as information on outages scheduled for March 2008 through February 2009. Information to be reported would be limited to a minimum outage length, such as any outage lasting 5 days or more. The units for reporting would be: (1) Crude Distillation Unit, (2) Reformer Unit, (3) Fluid Catalytic Cracking Unit, (4) Alkylation Unit, (5) Distillate Hydrocracking Unit, (6) Gas Oil Hydrocracking Unit, (7) Residual Fuel Oil Hydrocracking Unit, (8) Gasoline Hydrotreater Unit, (9) Distillate Fuel Oil Hydrotreater Unit, and (10) Coking Unit.

EIA also proposes to require estimates of the outage impacts on net product output for gasoline, gasoline blending components, jet fuel, kerosene, and other distillates. Product impacts may result from several units being out at the same time. As a result, reporting of impacts might have to be organized by grouping overlapping unit outages into a single Outage Event, with estimated product impacts being recorded for the event in total. Generally, if unit outages did not overlap, each unit outage would be a separate event with its own product impacts. An example of the type of information that might be collected is shown on EIA's Web site at http://www.eia.doe.gov/pub/oil_gas/petroleum/survey_forms/eia810-part6-proposed-example.pdf.

Survey respondents would include all current EIA-810 respondents; i.e., the operators of all operating and idle petroleum refineries located in the 50 States, District of Columbia, Puerto Rico, the Virgin Islands, Guam, and other U.S. possessions. Response to the survey would be mandatory pursuant to the Federal Energy Administration Act of 1974, Public Law 93-275.

The information collected would be processed and then disseminated in EIA's Petroleum Supply Monthly. The information would also be used in reports to the Secretary of the Department of Energy as well as other government officials regarding refinery outages and the possible net effects on the supplies of specified major petroleum products (e.g., finished motor gasoline, motor gasoline blending components, jet fuel, kerosene, and other distillates).

The unit-level information collected from the refineries on outages would be considered as public information and would be releasable to the public in identifiable form. However, information on the projected effects of any outage on the net production of specific petroleum products would be treated as protected from public release given that it would be considered as trade secrets and commercial or financial information obtained from a person and privileged or confidential.

Information on refinery outages and the possible effects on petroleum product supplies is essential to the mission of the DOE in general and EIA in particular. Currently, some private organizations collect and disseminate information on refinery outages.

Consideration of a proposal for EIA to collect refinery outage information was necessitated by requesters citing the important roles that petroleum product supplies and prices have in the U.S. economy and the potential significant effects of refinery outages. Public and private analysts who need information on scheduled outages and potential effects for planning and must rely on commercially available sources of information.

Form EIA-810 survey respondents would be expected to complete a new Part 6, “Report of Refinery Outages,” and submit it along with the existing Parts 1 through 5 each monthly. (The current Form EIA-810 and instructions are available at http://www.eia.doe.gov/oil_gas/petroleum/survey_forms/pet_survey_forms.html.)

II. Current Actions

EIA is considering collecting information each month on refinery outages for the reporting month (scheduled and unscheduled) and scheduled outages for the upcoming 12-month period. The information would be collected as a new Part 6 on Form EIA-810, “Monthly Refinery Report.” The information to be reported would include such items as affected units, type of outage, timing, unit capacities, and projected effects on the specified production of petroleum products. At this time, EIA is soliciting public comments on this proposal. At a later time, EIA may request approval from the Office of Management and Budget (OMB) to modify Form EIA-810 to add Part 6, “Report of Refinery Outages.”

III. Request for Comments

Prospective respondents and other interested parties should comment on the actions discussed in item II. The following guidelines are provided to assist in the preparation of comments.

1. General Issues

A. Is the proposed collection of information necessary for the proper performance of the functions of the agency and does the information have practical utility? Practical utility is defined as the actual usefulness of information, taking into account its accuracy, adequacy, reliability, timeliness, and the agency's ability to process the information it collects.

B. What enhancements can be made to the quality, utility, and clarity of the information to be collected?

C. Would one expect refiners to be able to estimate product impacts in a consistent manner that would provide meaningful, compatible estimates?

D. Given the currently available information from private organizations regarding refinery outages, please provide detailed reasons why any unit-level information collected from the refineries on outages should not be considered as public information and releasable to the public in identifiable form. Also, provide reasons why the information on the projected net effects on petroleum product supplies of any outage should not be treated as protected from public release considering it as trade secrets and commercial or financial information obtained from a person and privileged or confidential.

2. As a Potential Respondent to the Request for Information

A. What actions could be taken to help ensure and maximize the quality, objectivity, utility, and integrity of the information to be collected?

B. What, if any, issues or potential questions should EIA address in the survey form and instructions for collecting information on the timing and projected effects of refinery outages?

C. Can the information be submitted monthly by the due date? (Form EIA-810 is due by the 20th calendar day of a month.)

D. Public reporting burden for the Form EIA-810 is currently 4 hours and 45 minutes per response. The addition of Part 6, “Report of Refinery Outages,” is expected to increase the monthly EIA-810 reporting burden by one hour to 5 hours and 45 minutes per response. The estimated burden includes the total time necessary to provide the requested information. In your opinion, how accurate is this estimate?

E. The agency estimates that the only cost to a respondent is for the time it will take to complete the survey form. Will a respondent incur any start-up costs for reporting, or any recurring annual costs for operation, maintenance, and purchase of services associated with the information collection?

F. What additional actions could be taken to minimize the burden of this collection of information? Such actions may involve the use of automated, electronic, mechanical, or other technological collection techniques or other forms of information technology.

G. Does any other Federal, State, or local agency or any private organization collect similar information? If so, specify the agency/organization, the data element(s), the methods of collection, and what additional value would be derived from EIA undertaking a collection of that information.

3. As a Potential User of the Information To Be Collected

A. What actions could be taken to help ensure and maximize the quality, objectivity, utility, and integrity of the information disseminated?

B. Will the information be useful at the levels of detail to be reported?

C. For what purpose(s) would the information be used? Be specific.

D. Are there alternative sources for the information and are they useful? If so, what are their weaknesses and/or strengths?

Comments submitted in response to this notice will be summarized and/or included in any request for OMB approval of the collection of the information on refinery outages as a new part of Form EIA-810. They also will become a matter of public record.

Statutory Authority: Section 3507(h)(1) of the Paperwork Reduction Act of 1995 (Pub. L. No. 104-13, 44 U.S.C. 3501 et seq.).

Issued in Washington, DC, February 22, 2008.
Jay H. Casselberry,
Agency Clearance Officer, Statistics and Methods Group, Energy Information Administration.

[FR Doc. E8-3769 Filed 2-27-08; 8:45 am]

BILLING CODE 6450-01-P